DEPARTMENT OF ENERGY

Federal Energy Regulatory Commission

Notice of Department of Energy Delegation Order

February 19, 2002.

The attached Department of Energy Delegation of Authority Order No. 00-004.00 lists delegations from the Secretary of Energy to the Federal Energy Regulatory Commission. These new delegations make no substantive changes to the authority of the Commission but arrange the delegations in a more logical format.

Magalie R. Salas,
Secretary.

Department of Energy

[Delegation Order No. 00-004.00]

To the Federal Energy Regulatory Commission

1. Delegation

Under the authority vested in me as Secretary of Energy (“Secretary”) and pursuant to sections 642 and 402(e) of the Department of Energy Organization Act (Public Law 95-91, 42 U.S.C. 7252) (the “DOE Act”), I delegate to the Federal Energy Regulatory Commission (“Commission”) authority to take the following actions:

1.1 On a nonexclusive basis to the Chairman,

A. Administer and manage the Commission's personnel (including members of the Senior Executive Service) as is not otherwise granted the Chairman by statute. This authority delegated to the Chairman for administration and management of the Commission's personnel shall include, but not be limited to:

1. selection and appointment of personnel;

2. performance appraisals and performance appraisal systems;

3. compensation, promotions, awards, and bonuses;

4. reorganizations, transfers of functions, reductions in force, and the standards governing such reductions;

5. removals and disciplinary actions; and

6. training, travel, and transportation.

B. Enter into, modify, administer, terminate, close-out, and take such other action as may be necessary and appropriate with respect to any procurement contract, interagency agreement, financial assistance agreement, financial incentive agreement, sales contract, or other similar action binding the Department of Energy to the obligation and expenditure of public funds or the sale of products and services that are related to the mission of the Commission. Such action shall include the rendering of approvals, determinations, and decisions, except those required by law or regulation to be made by other authority.

C. Serve as the Head of the Procuring Activity (HPA) for the Federal Energy Regulatory Commission.

D. Appoint Contracting Officers for the Commission.

E. Acquire, manage, and dispose of personal property held by the Commission for official use by its employees or contractors.

F. Approve acquisitions of automatic data processing and telecommunications equipment and services.

1.2 Carry out Part I of the Federal Power Act (Public Law 280, 66th Cong., 2d Sess., as amended), to the extent that such authority is not transferred to, and vested in, the Commission by section 402(a)(1)(A) of the DOE Act, provided that this paragraph delegates (A) section 4 of the Federal Power Act to the extent the Commission determines the exercise of such authority is necessary for it to exercise any function transferred to, and vested in, the Commission by this delegation, and (B) section 24 of the Federal Power Act (relating to the granting of entry, location, or other disposition of lands of the United States reserved or classified as power sites).

1.3 Carry out such functions as are necessary to implement and enforce the Secretary's policy requiring holders of Presidential permits authorizing the construction, operation, maintenance, or connection of facilities for the transmission of electric energy between the United States and foreign countries to provide non-discriminatory open access transmission services. In exercising this authority the Commission is specifically authorized to utilize the authority of the Secretary under Executive Order No. 10485, dated September 3, 1953, as amended by Executive Order No. 12038, dated February 3, 1978, and section 202(e) of the Federal Power Act (FPA) (16 U.S.C. 824a(3)) and such other sections of the FPA vested in the Secretary as may be relevant, to regulate access to, and the rates, terms, and conditions for, transmission services over permitted international electric transmission facilities to the extent the Commission finds it necessary and appropriate to the public interest. This authority is delegated to the Commission for the sole purpose of authorizing the Commission to take actions necessary to implement and enforce non-discriminatory open access transmission service over the United States portion of those international electric transmission lines required by the Secretary to provide such service. Nothing in this delegation shall allow the Commission to revoke, amend, or otherwise modify Presidential permits or electricity export authorizations issued by the Secretary.

1.4 Implement section 202(a) of the Federal Power Act (relating to dividing the country into regional districts).

1.5 Implement section 203 of the Federal Power Act (relating to the disposition, merger or consolidation of facilities and the acquisition of securities);

1.6 Implement section 204 of the Federal Power Act (relating to the issuance of securities and the assumption of liabilities);

1.7 Implement section 206(b) of the Federal Power Act (relating to the investigation and determination of the cost of production or transmission of electric energy), as the Commission determines appropriate to perform its functions;

1.8 Implement section 207 of the Federal Power Act (relating to adequate and sufficient interstate service);

1.9 Implement section 209 of the Federal Power Act (relating to use of boards composed of State representatives and cooperation with State commissions);

1.10 Implement section 304 of the Federal Power Act (relating to annual and periodic or special reports), as the Commission determines appropriate to perform its functions;

1.11 Implement section 305 of the Federal Power Act (relating to officers or directors benefitting from the sale of issued securities and to interlocking directorates);

1.12 Implement section 311 of the Federal Power Act (relating to investigations regarding the generation, transmission, distribution, and sale of electric energy), as the Commission determines appropriate to perform its functions;

1.13 Implement sections 1(b) and 1(c) of the Natural Gas Act (ch. 556, 52 Stat. 821 (1938)(15 U.S.C. 717)) (relating to certain exemptions from the provisions of the Natural Gas Act);

1.14 Implement section 3 of the Natural Gas Act with respect to the decision on cases assigned to the Commission by rule;

1.15 Implement section 5(b) of the Natural Gas Act (relating to the investigation and determination of the cost of production or transportation of natural gas), as the Commission determines appropriate to perform its functions;

1.16 Implement section 10 of the Natural Gas Act (relating to annual and periodic or special reports), as the Commission determines appropriate to perform its functions;

1.17 Implement section 12 of the Natural Gas Act (relating to officers or directors benefitting from the sale of issued securities);

1.18 Implement section 19 of the Natural Gas Act (relating to rehearings on orders);

1.19 Implement the Interstate Commerce Act (49 U.S.C. 1, et seq.) and other statutes which formerly vested authority in the Interstate Commerce Commission or the chairman and members thereof, as such statutes relate to the transportation of oil by pipeline, to the extent that such statutes are not transferred to, and invested in, the Commission by section 402(b) of the DOE Act, provided, that this paragraph does not include any of the authority under section 11 of the Clayton Act (15 U.S.C. 21);

1.20 Issue orders, and take such other action as may be necessary and appropriate, to direct the Energy Information Administration to gather energy information pursuant to the Federal Energy Administration Act of 1974 or the Energy Supply and Environmental Coordination Act of 1974 to the extent necessary or appropriate to the exercise of regulatory functions of the Commission;

1.21 In reference to regulating the imports and exports of natural gas under the National Gas Act (ch. 556, 52 Stat. 821 (1938)(15 U.S.C. 717)), Executive Order No. 10485, as amended by Executive Order No. 12038, and section 301(b), 402(e) and (f) under the Department of Energy Organization Act (Public Law 95-91, 91 Stat. 565 (42 U.S.C. 7101 et seq.),

A. Approve or disapprove the construction and operation of particular facilities, the site at which such facilities shall be located, and with respect to natural gas that involves the construction of new domestic facilities, the place of entry of imports or exit for exports, except when the Assistant Secretary for Fossil Energy exercises the disapproval authority pursuant to the Delegation of Authority to the Assistant Secretary for Fossil Energy.

B. Carry out all functions under sections 4, 5, and 7 of the Natural Gas Act.

C. Issue orders, authorizations, and certificates which the Commission determines to be necessary or appropriate to implement the determinations made by the Assistant Secretary for Fossil Energy under the Delegation of Authority to the Assistant Secretary and by the Commission under this subparagraph. The Commission shall not issue any order, authorization, or certificate unless such order, authorization, or certificate adopts such terms and conditions as are attached by the Assistant Secretary for Fossil Energy pursuant to the Delegation of Authority to the Assistant Secretary of Fossil Energy.

2. Rescission

Delegation Orders 0204-1, 0204-1 (Amendment 1), 0204-105, 0204-110, 0204-112, 0204-136, 0204-166, 0204-170 are hereby rescinded.

3. Limitations

3.1 In exercising the authority delegated in paragraphs 1.1B through 1.1F in this Order, or redelegated pursuant thereto, the delegate(s) shall be governed by the rules and regulations of the Department of Energy and the policies and procedures prescribed by the Secretary or delegate(s).

3.2 Nothing in this Order precludes the Secretary from exercising any of the authority delegated by this Order.

3.3 Except as provided in paragraph 1.14, this Order does not include the authority to carry out the functions delegated herein to the extent such functions are vested in the Secretary pursuant to his authority to regulate the exports or imports of natural gas or electricity, under section 402(f) of the DOE Act; provided that the Secretary may from time to time delegate to the Commission such other authority under section 3 of the Natural Gas Act as may be determined appropriate.

3.4 The Commission shall consult with the Administrator of the Energy Information Administration (“EIA”) with respect to the exercise of functions under paragraphs 1.7, 1.10, 1.12, 1.15, 1.16, and 1.20, as EIA considers appropriate.

3.5 Any amendments to this Order shall be in consultation with the Department of Energy General Counsel.

4. Authority To Redelegate

4.1 Except as expressly prohibited by law, regulation, or this Order, the Commission may delegate, this authority further, in whole or in part.

4.2 Copies of redelegations and any subsequent redelegations shall be provided to the Office of Management and Operations Support, which manages the Secretarial Delegations of Authority system.

5. Duration and Effective Date

5.1 All actions pursuant to any authority delegated prior to this Order or pursuant to any authority delegated by this Order taken prior to and in effect on the date of this Order are ratified, and remain in force as if taken under this Order, unless or until rescinded, amended or superseded.

5.2 This Order is effective December 6, 2001.

Spencer Abraham,
Secretary of Energy.

[FR Doc. 02-4564 Filed 2-26-02; 8:45 am]

BILLING CODE 6717-01-M